DEPARTMENT OF THE INTERIOR

Bureau of Indian Affairs

Preparation of the 2013 American Indian Population and Labor Force Report

AGENCY: Bureau of Indian Affairs, Interior.

ACTION: Notice of Informational Sessions and Tribal Consultation Sessions.

SUMMARY: Indian Affairs will conduct two informational sessions and four leader-to-leader sessions with Indian tribes to obtain oral and written comments concerning preparation of the 2013 American Indian Population and Labor Force Report.

DATES: Written comments are due November 12, 2012. See the SUPPLEMENTARY INFORMATION section of this notice for dates of the information sessions and leader-to-leader consultation sessions.

ADDRESSES: See the SUPPLEMENTARY INFORMATION section of this notice for the locations of the informational sessions and leader-to-leader consultation sessions. Submit comments by email to: consultation@bia.gov or by U.S. mail to: Office of the Assistant Secretary—Indian Affairs, U.S. Department of the Interior, attn: Steven Payson, Mail Stop 4141 MIB, 1849 C Street NW., Washington, DC 20240.

FOR FURTHER INFORMATION CONTACT: For further technical information regarding preparation of the 2013 Labor Force Report, please contact Steven Payson, Economist, Office of the Assistant Secretary—Indian Affairs, at (202) 513-7745. For all other information, please contact Mr. Jonodev Chaudhuri, Counselor to the Assistant Secretary—Indian Affairs, at (202) 208-7613.

SUPPLEMENTARY INFORMATION: Indian Affairs will conduct two informational sessions and four leader-to-leader sessions with Indian tribes to obtain oral and written comments concerning preparation of the 2013 American Indian Population and Labor Force Report.

Informational sessions. Two information sessions on this topic will be held to coincide with the Alaska Federation of Natives Conference and National Congress of American Indians Convention. In addition to an exchange of information, we welcome informal comments during the two informational sessions.

• Annual Alaska Federation of Natives Conference, Room #3, second floor at the Dena'ina Center, 600 W. 7th Avenue, Anchorage, Alaska, Saturday, October 20, 2012, from 9 a.m. to 12 noon AKST (a teleconference line will be available for this informational session and can be accessed at (866) 723-7478, and with participant code #1572466.

• National Congress of American Indians 69th Annual Convention, in Room #305 at the Sacramento Convention Center, 1400 J Street, Sacramento, California, on Wednesday, October 24, 2012, from 6 p.m. to 8 p.m. PST.

Leader-to-leader consultation sessions. As part of our consultation efforts, we will be hosting four leader-to-leader sessions—three in-person sessions and one session via national conference. The four leader-to-leader sessions will build upon the informational sessions and focus on leader-to-leader dialogue. We will develop a transcript for the following leader-to-leader sessions.

• Monday, October 29, 2012, 8:30 a.m. to 12:30 p.m. CST—in the Hilton Garden Inn located at 801 South Meridian, Oklahoma City, Oklahoma. You may contact the hotel at (405) 942-1400.

• Tuesday, October 30, 2012, 1 p.m. to 4 p.m. MST—at the Bureau of Indian Affairs' Western Regional office in the fourth floor Eagle and Buffalo Rooms located at 2600 North Central Avenue, Phoenix, Arizona. Signs will be posted in the lobby and on the fourth floor. The Regional Director's Office will validate parking for the garage located directly behind 2600 North Central Avenue.

• Thursday, November 1, 2012, 8:30 a.m. to 12:30 p.m. MST—Holiday Inn Rushmore Plaza 505 North 5th Street, Rapid City, South Dakota. The Holiday Inn will provide a block of rooms for a limited time. You may contact the hotel at (605) 348-4000.

• Friday, November 9, 2012, from 1 p.m. to 3 p.m. EST at (877) 716-4290, and with participant code 5074051. For any technical assistance during the national call, please contact (202) 208-7163.

Background

Accurate information on the population and employment levels of tribes is critically important for understanding the social and economic circumstances that tribes face and identifying the best policies and strategies for promoting economic development in Indian Country. Congress recognized this importance in the Indian Employment, Training, and Related Services Demonstration Act of 1992, as amended, (Pub. L. 102-477, § 17), by requiring the Department of the Interior to publish, at least once every two years, the American Indian Population and Labor Force Report. The Act specifically requires:

[A] report on the population, by gender, eligible for the services which the Secretary provides to Indian people. The report shall include, but is not limited to, information at the national level by State, Bureau of Indian Affairs Service Area, and tribal level for the—

(1) total service population;

(2) the service population under age 16 and over 64;

(3) the population available for work, including those not considered to be actively seeking work;

(4) the employed population, including those employed with annual earnings below the poverty line; and

(5) the numbers employed in private sector positions and in public sector positions.

The Department is expected to produce the next American Indian Population and Labor Force Report in 2013. In preparation, the Department would like tribes' input on the questions regarding how to define certain terms and how best to obtain the information required by the Act. In the past, Interior has obtained the Labor Force Report information required by the Act by surveying Tribes. Another option to obtain this data would be to acquire it from the U.S. Census Bureau. We are seeking Tribes' input on these options for collecting data, and other issues, including:

(1) To what extent do you have the above-listed population and employment information readily available to respond to a survey?

(2) Would you be willing to respond to such a survey?

(3) Is there other information, beyond that which is specifically required by the Act, that you would be willing to provide in a survey, if the information will help federal or Tribal programming?

(4) Should Interior use information from the Census Bureau to answer the questions for the report? If so, what kind of information should be acquired from the Census Bureau's published statistics? If not, is it a matter of the availability of the Census Bureau's statistics or a matter of their accuracy (or both)?

(5) If Interior can obtain all of the information needed for the report from the Census Bureau, should it still conduct a survey to ask Tribes for this or other information?

(6) Regardless of whether Interior uses a survey or Census Bureau data for future reports, Interior is considering using information from the Census Bureau, rather than a survey, for the 2013 report to meet the 2013 deadline. What are your views on this approach?

(7) Are there other options for obtaining this information that Interior should consider?

(8) How should “service population” by the “Tribal level” be defined for this report? For example:

(a) Should it include individuals in the Tribe's general location, or should it include individuals enrolled in the Tribe who may not be in the Tribe's location but may still be eligible for services?

(b) If people are in an area where they may receive services from more than one Tribe, should they be counted only as in the service population of the Tribe in which they are enrolled?

(c) Should service population be measured in terms of geography as opposed to Tribal enrollment?

Dated: September 28, 2012.
Donald E. Laverdure,
Acting Assistant Secretary, Indian Affairs.

[FR Doc. 2012-24960 Filed 10-10-12; 8:45 am]

BILLING CODE 4310-02-P